LIBRARY OF CONGRESS

Copyright Royalty Board

[Docket No. 2007-3 CRB CD 2004-2005]

Distribution of the 2004 and 2005 Cable Royalty Funds

AGENCY: Copyright Royalty Board, Library of Congress.

ACTION: Notice announcing partial Phase I settlement and soliciting comments on motion for partial distribution.

SUMMARY: The Copyright Royalty Judges are announcing a partial Phase I settlement in connection with the 2004 and 2005 cable royalty funds. The Judges are also soliciting comments on a motion for partial distribution in connection with those funds.

DATES: Comments are due on or before February 29, 2008.

ADDRESSES: Comments may be sent electronically to crb@loc.gov. In the alternative, send an original, five copies, and an electronic copy on a CD either by mail or hand delivery. Please do not use multiple means of transmission. Comments may not be delivered by an overnight delivery service other than the U.S. Postal Service Express Mail. If by mail (including overnight delivery), comments must be addressed to: Copyright Royalty Board, P.O. Box 70977, Washington, DC 20024-0977. If hand delivered by a private party, comments must be brought to the Library of Congress, James Madison Memorial Building, LM-401, 101 Independence Avenue, SE., Washington, DC 20559-6000. If delivered by a commercial courier, comments must be delivered to the Congressional Courier Acceptance Site located at 2nd and D Street, NE., Washington, DC. The envelope must be addressed to: Copyright Royalty Board, Library of Congress, James Madison Memorial Building, LM-403, 101 Independence Avenue, SE., Washington, DC 20559-6000.

FOR FURTHER INFORMATION CONTACT: Richard Strasser, Senior Attorney, or Gina Giuffreda, Attorney Advisor, by telephone at (202) 707-7658 or e-mail at crb@loc.gov.

SUPPLEMENTARY INFORMATION: Each year cable systems must submit royalty payments to the Register of Copyrights as required by the statutory license set forth in section 111 of the Copyright Act for the retransmission to cable subscribers of over-the-air television and radio broadcast signals. See 17 U.S.C. 111(d). These royalties are then distributed to copyright owners whose works were included in a qualifying transmission and who timely filed a claim for royalties. Allocation of the royalties collected occurs in one of two ways. In the first instance, these funds will be distributed through a negotiated settlement among the parties. 17 U.S.C. 111(d)(4)(A). If the claimants do not reach an agreement with respect to the royalties, the Copyright Royalty Judges (“Judges”) must conduct a proceeding to determine the distribution of any royalties that remain in controversy. 17 U.S.C. 111(d)(4)(B).

On November 2, 2007, representatives of the Phase I claimant categories (the “Phase I Parties”) ¹ filed with the Judges a motion requesting a partial distribution of 50% of each of the 2004 and 2005 cable royalty funds. Under section 801(b)(3)(C) of the Copyright Act, the Judges must publish a notice in the Federal Register seeking responses to the motion for partial distribution to ascertain whether any controversy exists over the requested funds before ruling on the motion. Consequently, by today's Notice, the Judges seek comments on whether any controversy exists that would preclude the distribution of 50% of the 2004 and/or 2005 cable royalty funds to the Phase I Parties.

¹ The “Phase I Parties” are the Program Suppliers, Joint Sports Claimants, Public Television Claimants, the National Association of Broadcasters, the American Society of Composers, Authors and Publishers, Broadcast Music, Inc., SESAC, Inc., Canadian Claimants, National Public Radio, and the Devotional Claimants.

The Judges also seek comment on the existence and extent of any controversies to the 2004 and 2005 cable royalty funds, either at Phase I or Phase II, with respect to the 50% of those funds that would remain if the partial distribution is granted. In Phase I of a cable royalty distribution, royalties are distributed to certain categories of broadcast programming that have been retransmitted by cable systems. The categories have traditionally been movies and syndicated television series, sports programming, commercial and noncommercial broadcaster-owned programming, religious programming, music, public radio programming, and Canadian programming. In Phase II of a cable royalty distribution, royalties are distributed to claimants within each of the Phase I categories. Any party submitting comments on the existence of a Phase II controversy must identify the category or categories in which there is a dispute and the extent of the controversy or controversies.

The Judges must be advised of the existence and extent of all Phase I and Phase II controversies by the end of the comment period. It will not consider any controversies that come to their attention after the close of that period.

The Motion of the Phase I Claimants for Partial Distribution is posted on the Copyright Royalty Board Web site at http://www.loc.gov/crb/proceedings/2007-3/11-02-07-phase1motion.pdf.

Dated: January 24, 2008.
James Scott Sledge,
Chief Copyright Royalty Judge.

[FR Doc. E8-1661 Filed 1-29-08; 8:45 am]

BILLING CODE 1410-72-P